DEPARTMENT OF THE TREASURY

Office of Foreign Assets Control

Notice of OFAC Sanctions Action

AGENCY: Office of Foreign Assets Control, Treasury.

ACTION: Notice.

SUMMARY: The Treasury Department's Office of Foreign Assets Control (OFAC) is updating the identifying information on its list of Specially Designated Nationals and Blocked Persons (SDN List) for two persons whose property and interests in property are blocked pursuant to Executive Order 13382.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The SDN List and additional information concerning OFAC sanctions programs are available on OFAC's website (https://www.treasury.gov/ofac).

Notice of OFAC Action(s)

On September 21, 2020, OFAC published the following revised information for the following persons on OFAC's SDN List whose property and interests in property are blocked pursuant to Executive Order 13382, “Blocking Property of Weapons of Mass Destruction Proliferators and Their Supporters”:

Individual

NOOSHIN, Seyed Mirahmad (a.k.a. NOOSHIN, Seid Mir Ahmad; a.k.a. NUSHIN, Sayyed Mir Ahmad), Iran; DOB 11 Jan 1966; Additional Sanctions Information—Subject to Secondary Sanctions; Gender Male; Passport G9311208 (Iran); Director, Aerospace Industries Organization (individual) [NPWMD] [IFSR] (Linked To: SHAHID HEMMAT INDUSTRIAL GROUP).

Entity

SHAHID MOVAHED INDUSTRIES (a.k.a. SHAHID HAJ ALI MOVAHED RESEARCH CENTER; a.k.a. SHAHID MOVAHED INDUSTRY; a.k.a. SHIG DEPARTMENT 7500), c/o SHIG, Damavand Tehran Highway, P.O. Box 16595-159, Tehran, Iran; Additional Sanctions Information—Subject to Secondary Sanctions [NPWMD] [IFSR] (Linked To: SHAHID HEMMAT INDUSTRIAL GROUP).

Dated: September 21, 2020.
Andrea M. Gacki,
Director, Office of Foreign Assets Control.

[FR Doc. 2020-21154 Filed 9-24-20; 8:45 am]

BILLING CODE 4810-AL-P